DEPARTMENT OF DEFENSE

Department of the Army

[Docket ID: USA-2008-0048]

Privacy Act of 1974; System of Records

AGENCY: Department of the Army, DoD.

ACTION: Notice to amend a system of records.

SUMMARY: The Department of the Army is amending a system of records notice in its existing inventory of record systems subject to the Privacy Act of 1974, (5 U.S.C. 552a), as amended.

DATES: This proposed action will be effective without further notice on September 2, 2008 unless comments are received which result in a contrary determination.

ADDRESSES: Department of the Army, Freedom of Information/ Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 25, 2008.
Patricia L. Toppings,
OSD Federal Register Liaison Officer, Department of Defense.

A0027-20b DAJA

System name:

Tort Claim Files (February 1, 1996, 61 FR 3682).

Changes:

* * * * *

System name:

Delete entry and replace with “Tort Claim Files in Litigation.”

* * * * *

Authority for maintenance of the system:

Delete entry and replace with “10 U.S.C. 3013, Secretary of the Army; 28 U.S.C. 2671-2680, Judiciary and Judicial Procedure; Army Regulation 27-20, Claims; and E.O. 9397 (SSN).”

* * * * *

Storage:

Delete entry and replace with “Paper records in file folders and electronic storage media.”

* * * * *

A0027-20b DAJA

System name:

Tort Claim Files in Litigation

System location:

Office of the Judge Advocate General, U.S. Army Litigation Division, 901 N. Stuart Street, Suite 400, Arlington, VA 22203-1837.

Categories of individuals covered by the system:

Individuals who have filed a complaint against the U.S. Army in the U.S. District Court under the Federal Tort Claims Act.

Categories of records in the system:

Pleadings, motions, briefs, orders, decisions, memoranda, opinions, supporting documentation, and allied material, including claims investigation, reports and files involved in representing the U.S. Army in the Federal Court System.

Authority for maintenance of the system:

10 U.S.C. 3013, Secretary of the Army; 28 U.S.C. 2671-2680, Judiciary and Judicial Procedure; Army Regulation 27-20, Claims; and E.O. 9397 (SSN).

Purpose(s):

To defend the Army in civil suits filed against it in state or federal courts.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information is disclosed to the Department of Justice and United States Attorneys' offices handling the particular case. Most of the information is filed in some manner in the courts in which the litigation is pending and therefore is a public record. In addition, some of the information will appear in the written orders, opinions, and decisions of the courts which, in turn, are published in the Federal Reporter System under the name or style of the case and are available to individuals with access to a law library.

Information from this system of records may also be disclosed to law students participating in a volunteer legal support program approved by the Judge Advocate General of the Army.

The ‘Blanket Routine Uses’ set forth at the beginning of the Army's compilation of systems of records notices apply to this system.

Policies and practices for storing, retrieving, accessing, retaining, and disposing of records in the system:

Storage:

Paper records in file folders and electronic storage media.

Retrievability:

Retrieved by claimant's surname and court docket number.

Safeguards:

Records are maintained in file cabinets within secured buildings and available only to designated authorized individuals who have official need for them.

Retention and disposal:

Records are destroyed 10 years after final action on the case.

System manager(s) and address:

Office of the Judge Advocate General, Department of the Army, 2200 Army Pentagon, Washington, DC 20310-2200.

Notification procedure:

Individuals seeking to determine whether information about themselves is contained in this system should address written inquiries to the Chief, U.S. Army Litigation Division, 901 N. Stuart Street, Suite 400, Arlington, VA 2203-1837.

Individuals should provide full name, current address and telephone number, case number that appeared on documentation, any other information that will assist in locating pertinent records and signature.

Record access procedures:

Individuals seeking access to information about themselves contained in this system should address written inquiries to the Chief, U.S. Army Litigation Division, 901 N. Stuart Street, Suite 400, Arlington, VA 2203-1837.

Individual should provide full name, current address and telephone number, case number that appeared on documentation, any other information that will assist in locating pertinent records and signature.

Contesting record procedures:

The Army's rules for accessing records, contesting contents, and appealing initial agency determinations are contained in Army Regulation 340-21; 32 CFR part 505; or may be obtained from the system manager.

Record source categories:

From the individual; Army records and reports.

Exemptions claimed for the system:

None.

[FR Doc. E8-17609 Filed 7-31-08; 8:45 am]

BILLING CODE 5001-06-P